DEPARTMENT OF THE INTERIOR

Bureau of Land Management

[LLORV00000.L10200000.EE0000.LXSSH1060000.232.HAG 23-0006]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM's) Southeast Oregon Resource Advisory Council (RAC) will meet as follows.

DATES: The Southeast Oregon RAC will meet Tuesday, February 28, 2023, from 1 p.m. to 4:30 p.m. A public comment period will be offered at 4 p.m. The RAC will reconvene Wednesday, March 1, 2023, from 8 a.m. to 10:30 a.m. A public comment period will be offered at 9:05 a.m. A virtual participation option will also be offered for both meeting days and participation instructions will be available on the RAC's web page in advance of the meeting at https://www.blm.gov/get-involved/resource-advisory-council/near-you/oregon-washington/southeast-oregon-rac.

The RAC will hold a field tour of the Burns BLM Wild Horse Corrals following the March 1 meeting at 10:30 a.m., which is estimated to last for 1 hour depending on the needs of the group. To participate in the tour, please notify RAC coordinator Larisa Bogardus at (541) 219-6863 or lbogardus@blm.gov no later than 4:30 p.m. Thursday, Feb. 23, 2022, so arrangements can be made to accommodate the group size. Members of the public are welcome on the field tour but must provide their own transportation and meals.

ADDRESSES: The meeting is open to the public and will be held at the BLM Burns District Office, 28910 US-20, Hines, OR 97738. The field tour will depart from the same location. The final agenda and additional meeting details will be posted at least 10 days in advance of the meeting on the RAC web page: https://www.blm.gov/get-involved/resource-advisory-council/near-you/oregon-washington/southeast-oregon-rac.

Public comments can be mailed to BLM Vale District, Attn: Wayne Monger, 100 Oregon St., Vale, OR 97918 or sent via email to dmonger@blm.gov. All comments received will be provided to the Southeast Oregon RAC members.

FOR FURTHER INFORMATION CONTACT: Larisa Bogardus, Public Affairs Officer, 3100 H St., Baker City, OR 97814; (541) 219-6863; lbogardus@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Southeast Oregon RAC is chartered, and the 15 members are appointed by the Secretary of the Interior. Their diverse perspectives are represented in commodity, non-commodity, and local interests. The RAC serves in an advisory capacity to BLM and U.S. Forest Service officials concerning planning and management of public land and national forest resources located, in whole or part, within the boundaries of the BLM's Vale Field Office of the Vale District, Burns District, Lakeview District, and Fremont-Winema and Malheur National Forests. All meetings are open to the public in their entirety. Information to be distributed to the RAC is requested before the start of each meeting.

The meeting will include an orientation on travel management planning; updates regarding the Southeast Oregon and Lakeview Resource Management Plan amendment processes; discussion of wild horse and burro herd management; review of recommendations regarding proposed actions by the Burns, Vale, and Lakeview BLM Districts; and any other business that may reasonably come before the RAC. A field tour of the Burns BLM Wild Horse Corrals will be held to familiarize RAC members with the care, conditions, and management of gathered wild horses and burros.

As noted earlier (see DATES), the public may address the Southeast Oregon RAC during the public comment portions of the meeting on February 28 and March 1, 2023. Depending on the number of persons wishing to speak, the time for individual comments may be limited. Individuals who plan to attend and need special assistance, such as sign language interpretation or other reasonable accommodations, should contact the BLM (see FOR FURTHER INFORMATION CONTACT).

Before including your address, phone number, email address, or other personal identifying information in your comments, please be aware that your entire comment—including your personal identifying information—may be made publicly available at any time. While you can ask us in your comment to withhold your personal identifying information from public review, we cannot guarantee we will be able to do so.

The Designated Federal Officer will attend the meeting, take minutes, and publish these minutes on the RAC's web page at: https://www.blm.gov/get-involved/resource-advisory-council/near-you/oregon-washington/southeast-oregon-rac.

(Authority: 43 CFR 1784.4-2)

Darrel W. Monger,
Vale District Manager.

[FR Doc. 2023-00302 Filed 1-9-23; 8:45 am]

BILLING CODE 4310-33-P